DEPARTMENT OF LABOR

Employment and Training Administration

Notice of a Public Meeting of the Advisory Committee on Apprenticeship (ACA)

AGENCY: Employment and Training Administration (ETA), Labor.

ACTION: Notice of a public meeting.

SUMMARY: Pursuant to Section 10 of the Federal Advisory Committee Act (FACA) (Pub. L. 92-463; 5 U.S.C. APP. 1), notice is hereby given to announce an open meeting of the Advisory Committee on Apprenticeship on August 1-2, 2012. This meeting will take place at the U.S. Department of Labor, Frances Perkins Building, 200 Constitution Avenue NW., Washington, DC 20210. The ACA is a discretionary committee established by the Secretary of Labor, in accordance with FACA, as amended 5 U.S.C., App. 2, and its implementing regulations (41 CFR 101-6 and 102-3). All meetings of the ACA are open to the public.

Time and Date: The meeting will begin at approximately 1:30 p.m. Eastern Daylight Savings Time on Wednesday, August 1, 2012, and continues until approximately 5:00 p.m. The meeting will reconvene on Thursday, August 2, 2012, at approximately 9:00 a.m. Eastern Daylight Savings Time and adjourn at approximately 1:00 p.m.

ADDRESSES: The meeting location is the U.S. Department of Labor, 200 Constitution Avenue NW., Washington, DC 20210.

FOR FURTHER INFORMATION CONTACT: The Designated Federal Official, Mr. John V. Ladd, Administrator, Office of Apprenticeship, Employment and Training Administration, U.S. Department of Labor, 200 Constitution Avenue NW., Room N-5311, Washington, DC 20210. Telephone: (202) 693-2796, (this is not a toll-free number).

SUPPLEMENTARY INFORMATION: This meeting is open to the public and members of the public are invited to attend the proceedings. If individuals have special needs and/or disabilities that will require special accommodations, please contact Kenya Huckaby on (202) 693-3795 no later than Wednesday, July 25, 2012, to request for arrangements to be made.

Agenda topics for this meeting can be found below. Any member of the public who wishes to file written data or comments pertaining to the agenda may do so by sending the data or comments to the Designated Federal Official, Mr. John V. Ladd, Administrator via email at oa.administrator@dol.gov, subject line “ACA Meeting,” or submitting to Administrator, Office of Apprenticeship, Employment and Training Administration, U.S. Department of Labor, Room N-5311, 200 Constitution Avenue NW., Washington, DC 20210. Such submissions must be received by Wednesday, July 25, 2012, to be included in the record for the meeting.

Purpose of the Meeting and Topics To Be Discussed

The August ACA meeting will follow the Department's Registered Apprenticeship National Education and Action Summit in recognition of the 75th Anniversary of the National Apprenticeship Act. The primary purpose of the meeting is to convene expert panels, drawn from summit participants, to consider key goals of the ACA's draft vision for 21st Century Registered Apprenticeship as follows:

• An increasing number of businesses and additional industries will use and reap the advantages of the Registered Apprenticeship model.

• Americans will seek and find Registered Apprenticeship as a valuable post-secondary pathway to rewarding careers.

• Diverse populations in the U.S. workforce will have access to growing opportunities generated within Registered Apprenticeship.

• Public policy will increasingly reflect the power and value of Registered Apprenticeship to address economic and workforce development challenges.

In addition, the Department will provide a report to the Committee on the outcomes of the Registered Apprenticeship National Education and Action Summit, including specific recommendations generated at the summit, held in recognition of the 75th Anniversary of the National Apprenticeship Act. Finally, the Employee Benefits Security Administration will also provide information to the Committee related to recent oversight activities of apprenticeship and training plans.

Finally, the ACA may also consider comments from members of the public related to the agenda items above. Any member of the public who wishes to speak at the meeting should indicate the nature of the intended presentation and the amount of time needed by furnishing a written statement to the Designated Federal Official, Mr. John V. Ladd, by Wednesday, July 25, 2012; (see above for contact information). The Chairperson will announce at the beginning of the meeting the extent to which time will permit the granting of such requests.

Signed at Washington, DC, this 27th day of June 2012.
Jane Oates,
Assistant Secretary for the Employment and Training Administration.

[FR Doc. 2012-16157 Filed 7-2-12; 8:45 am]

BILLING CODE 4510-FR-P